DEPARTMENT OF AGRICULTURE

Office of the Secretary

[Docket Number: USDA-2022-0015]

Notice of Request for Public Comment on Providing Financial Assistance for Producers and Landowners Determined To Have Experienced Discrimination

AGENCY: Office of the Secretary, U.S. Department of Agriculture.

ACTION: Request for information.

SUMMARY: Section 22007 of the Inflation Reduction Act of 2022 (“section 22007”) directs the U.S. Department of Agriculture (USDA) to provide financial assistance for producers and landowners determined to have experienced discrimination in the Department of Agriculture's farm lending programs. To help us design and implement policy to best provide the direct support called for by this provision, USDA is seeking input from the public to ensure that relevant information is considered. Accordingly, USDA is interested in your comments in response to the topics, categories, and questions presented in the SUPPLEMENTARY INFORMATION section of this document.

DATES: Interested persons are invited to submit comments on or before 11:59 p.m. Eastern Time November 14, 2022.

ADDRESSES: Comments may be submitted online via the Federal eRulemaking Portal. Go to https://www.regulations.gov and search for the Docket No. USDA-2022-0015. Follow the online instructions for submitting comments. All comments received will be posted without change and publicly available on www.regulations.gov.

FOR FURTHER INFORMATION CONTACT: Liz Archuleta; telephone: (202) 720-7095; Email: EquityRFI@usda.gov.

SUPPLEMENTARY INFORMATION: Section 22007 provides $2.2 billion for financial assistance for producers determined to have experienced discrimination in the Department of Agriculture's farm lending programs prior to January 1, 2021.

When USDA commits acts of discrimination, it not only hurts the individuals and entities directly impacted, it also breaks a trust with those directly affected and the communities of which they are part. This program provides USDA the ability to provide financial assistance for those who have been harmed in USDA's farm lending programs, but more fundamentally is about providing USDA the tools to rebuild that trust by directly acknowledging the wrongs that have been committed and taking concrete actions to offset those wrongs. It is critical that USDA restore and maintain the trust of individuals and communities where trust has been broken. A trusting and mutually supportive relationship between agricultural producers and USDA is essential to a safe and secure food supply chain and our nation's ability to produce food, feed, and fiber that is key to our daily lives and the US economy. USDA is seeking input from individuals, stakeholder organizations, and others on the options for implementation of this provision.

In doing so, USDA also aims to continue to demonstrate its commitment to upholding civil rights and making progress towards establishing and maintaining trust with agricultural producers.

The purpose of this notice is to request information and input on how USDA should implement this transformative authority. The input received relating to implementation of this program may inform future USDA equity activities.

Specifically, USDA is requesting public comment on the following issues and on other implementation issues that are not included on this list.

Issues for Consideration

The first issue in implementing section 22007 is the identification of those who are eligible for financial assistance. By the terms of the statute, relief under this provision is for “farmers, ranchers, or forest landowners determined to have experienced discrimination prior to January 1, 2021, in Department of Agriculture farm lending programs.” USDA specifically requests input from the public on this issue, including on questions such as:

• How should USDA identify those who have experienced discrimination under the USDA farm loan programs?

• What kind of documentation or evidence should be submitted in support of a determination of discrimination?

The second issue in implementing section 22007 is for those determined eligible, what factors should be considered in determining the amount and type of financial assistance provided. Under section 22007, “the amount of financial assistance provided to a recipient may be not more than $500,000, as determined to be appropriate based on any consequences experienced from the discrimination.” USDA specifically requests input from the public on this issue, including on questions such as:

• Should USDA attempt to estimate only economic losses or also non-economic losses of those who have suffered discrimination in USDA farm loan programs when calculating the amount of financial assistance provided? Alternatively, should USDA apply a fixed, uniform formula for calculating the amount of financial assistance provided? In any case, how should that calculation be done?

• Should previous payments received for past claims of discrimination be considered in determining financial assistance available under section 22007?

• Are there forms of non-monetary equitable relief that can be used in conjunction with the financial assistance provided under section 22007 for those who have experienced discrimination and who continue to farm or continue to participate in USDA farm loan programs?

• How, if at all, should USDA consider the recency of the discrimination as determined by the Secretary when determining appropriate level of financial assistance?

The third issue concerns the administration of the financial assistance program, including the role of the third-party entity (or entities) versus the role of USDA, selection of the third-party entity (or entities), and key components relating to the process of determining delivery of financial assistance. Section 22007 provides that the “program shall be administered through 1 or more qualified nongovernmental entities selected by the Secretary subject to standards set and enforced by the Secretary.” USDA specifically requests input from the public on this issue, including on questions such as:

• What specific functions should the third-party entity (or entities) perform in assisting USDA in delivering financial assistance provided for under section 22007 to those who suffered discrimination under the USDA farm loan programs?

• What criteria should USDA use in the selection of the third-party entity (or entities)?

• What guidance should USDA provide to the selected entity (or entities)?

The fourth issue is the linkage or leveraging, if any, between the financial assistance provided in this program and other USDA programs. USDA specifically requests input from the public on this issue, including on questions such as:

• How should USDA use programs, funding, financial support, and other authorities, in conjunction with section 22007 financial assistance, to provide support for those who have experienced discrimination under the USDA farm loan programs?

Civil Rights Complaint

Information submitted through this document will not be processed as a civil rights complaint and will not be considered a complaint for determining whether a complaint was timely submitted.

To file a discrimination complaint on interactions with USDA, you can complete the form: https://www.usda.gov/sites/default/files/documents/Complain_combined_6_8_12_508.pdf.

You may submit the discrimination complaint to USDA by any of the following methods:

Mail: U.S. Department of Agriculture, Director, Center for Civil Rights Enforcement, 1400 Independence Avenue SW, Washington, DC 20250-9410.

Fax: (202) 690-7442; or

Email: program.intake@usda.gov.

If you need any assistance completing the form, call the following phone numbers:

• (202) 260-1026 (Local),

• (866) 632-9992 (Toll-free Customer Service),

• (800) 877-8339 (Local or Federal relay), or

• (866) 377-8642 (Relay voice users).

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible agency or USDA TARGET Center at (202) 720-2600 or 844-433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Elizabeth Archuleta,
Director, Office of Intergovernmental & External Affairs, U.S. Department of Agriculture.

[FR Doc. 2022-22435 Filed 10-13-22; 8:45 am]

BILLING CODE 3410-90-P